DEPARTMENT OF COMMERCE

National Institute of Standards and Technology

Proposed Information Collection; Comment Request; Malcolm Baldrige National Quality Award Application (MBNQA)

AGENCY: National Institute of Standards and Technology, Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before November 2, 2015.

ADDRESSES: Direct all written comments to Jennifer Jessup, Departmental Paperwork Clearance Officer, Department of Commerce, Room 6616, 14th and Constitution Avenue NW., Washington, DC 20230 (or via the Internet at JJessup@doc.gov).

FOR FURTHER INFORMATION CONTACT: Requests for additional information or copies of the information collection instrument and instructions should be directed to Dawn Bailey, Baldrige Performance Excellence Program, 100 Bureau Drive, Stop 1020, Gaithersburg, MD, 20899, 301-975-3074, dawn.bailey@nist.gov.

SUPPLEMENTARY INFORMATION:

I. Abstract

The Department of Commerce is responsible for the Baldrige Performance Excellence Program (BPEP) and the Malcolm Baldrige National Quality Award (MBNQA), the nation's highest award for organizational performance excellence. Directly associated with this award is the Board of Examiners, an integral volunteer workforce for BPEP. NIST manages BPEP. An applicant organization for the MBNQA is required to perform two steps: (1) The applicant organization self-certifies that it meets eligibility requirements with an eligibility form; and (2) the applicant organization prepares and completes an application package. BPEP will assist with or offer advice on any questions or issues that the applicant may have concerning the eligibility or application processes; this includes BPEP staff manning a hotline during the week and on weekends for organizations to call or email. With the help of the Board of Examiners, BPEP will use the eligibility forms and application package to assess and provide feedback on the applicant's performance excellence practices. These practices could lead to a MBNQA awarded by the President of the United States or his delegate.

Per Public Law 100-107 (Malcolm Baldrige National Quality Improvement Act of 1987), the MBNQA helps to stimulate American companies to improve quality and productivity for the pride of recognition while obtaining a competitive edge through increased profits; recognizes the achievements of those companies that improve the quality of their goods and services and provide an example to others; establishes guidelines and criteria that can be used by business, industrial, governmental, and other organizations in evaluating their own quality improvement efforts; and provides specific guidance for other American organizations that wish to learn how to manage for high quality by making available detailed information on how winning organizations were able to change their cultures and achieve eminence.

The application to be a member of the Board of Examiners is a one-step, secure, online process. Each year, BPEP recruits highly skilled experts in the fields of manufacturing, service, small business, health care, education, and nonprofit, the six Award eligibility categories, to evaluate the applications that BPEP receives. Examiners serve for a one-year term; participation on the board is entirely voluntary. Examiners receive three- to four-days of free on-site training (depending on experience level); this training has been nationally recognized for two consecutive years as part of the number-one leadership development program in the military/government category of the Leadership 500 Awards, sponsored by HR.com.

BPEP's mission to improve the competitiveness and performance of U.S. organizations for the benefit of all U.S. residents.

II. Method of Collection

MBNQA applicant organizations must comply in writing according to the Eligibility Certification Form and Baldrige Award Application Form available at http://www.nist.gov/baldrige/enter/how_to_apply.cfm. Information on the application for the Board of Examiners can be found at http://www.nist.gov/baldrige/examiners/index.cfm. BPEP will electronically send a unique user ID and password (separate emails) on how applicants to the Board of Examiners can apply to the secure system.

III. Data

OMB Control Number: 0693-0006.

Form Number(s): None.

Type of Review:. Revision of a current information collection.

Affected Public: Business, health care, education, or other for-profit organizations; health care, education, and other nonprofit organizations; and individuals or households.

Estimated Number of Respondents: 580 (30 Applications for MBNQA and 550 Applicants for the Board of Examiners).

Estimated Time per Response: 74 hours for applications for MBNQA, and 1 hour for applications for the Board of Examiners.

Estimated Total Annual Burden Hours: 2,770 (MBNQA = 2,220 and Board of Examiners = 550).

Estimated Total Annual Cost to Public: MBNQA = $1,610-$79,610 (application and site visit fees vary depending on profit nature of organization and its sector [e.g., smallest fee is for a nonprofit K-12 school, largest fee is for a global manufacturer]; additionally, only 25% of applications pay site visit fees that again vary depending on number of sites and sector of the organization) and Board of Examiners: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: August 28, 2015.
Glenna Mickelson,
Management Analyst, Office of the Chief Information Officer.

[FR Doc. 2015-21735 Filed 9-1-15; 8:45 am]

BILLING CODE 3510-13-P